DEPARTMENT OF HOUSING AND URBAN DEVELOPMENT

[Docket No. FR-4665-N-32]

Conference Call Meeting of the Manufactured Housing Consensus Committee

AGENCY: Office of the Assistant Secretary for Housing—Federal Housing Commissioner, HUD.

ACTION: Notice of upcoming meeting via conference call.

SUMMARY: This notice sets forth the schedule and proposed agenda of the upcoming meetings of the Manufactured Housing Consensus Committee (the Committee) to be held via telephone conference. The meetings are open to the general public, which may participate by following the instructions below.

DATES: The conference call meetings will be held on Monday, August 14, 2006, from 11 a.m. to 2 p.m. eastern daylight time, and Friday, August 18, 2006, from 11 a.m. to 2 p.m. eastern daylight time.

ADDRESSES: Information concerning the conference call can be obtained from the Department's Consensus Committee Administering Organization, the National Fire Protection Association (NFPA). Interested parties can link onto the NFPA's Web site for instructions concerning how to participate, and for contact information for the conference call from a HUD Web site, in the section marked “Business” “Manufactured Housing Consensus Committee Information”. The link can be found at: http://www.hud.gov/offices/hsg/sfh/mhs/mhshome.cfm.

Alternately, interested parties may contact Elsie Draughn of the Office of Manufactured Housing Programs at (202) 708-6423 (this is not a toll-free number) for conference call information.

FOR FURTHER INFORMATION CONTACT: William W. Matchneer III, Associate Deputy Assistant Secretary, Office of Regulatory Affairs and Manufactured Housing, Department of Housing and Urban Development, 451 7th Street, SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of the conference call meeting is to permit the Committee, at its request, to discuss and take action on the submission of its comments to the Office of General Counsel, Department of Housing and Urban Development, in response to the June 14, 2006, Federal Register notice on (Title 24, Code of Federal Regulation, Part 3286—Manufactured Home Installation Program; Proposed Rule). It is necessary to have these meetings on these dates, to permit the Committee to take action on this matter in a timely manner.

Tentative Agenda

A. Roll Call.

B. Welcome and opening remarks.

C. Full Committee meeting to discuss and take actions to provide comments in response to the Federal Register Notice on 24 CFR Part 3286-Manufactured Home Installation Program; Proposed Rule.

D. Adjournment.

Dated: July 31, 2006.
Frank L. Davis,
General Deputy Assistant Secretary for Housing.

[FR Doc. E6-12665 Filed 8-3-06; 8:45 am]

BILLING CODE 4210-67-P